DEPARTMENT OF STATE

[Public Notice:12775]

Review and Amendment of the Foreign Terrorist Organization Designation of Lashkar-e-Tayyiba

Based upon a review of the Administrative Record assembled pursuant to Section 219(a)(4)(C) of the Immigration and Nationality Act, as amended (8 U.S.C. 1189(a)(4)(C)) (“INA”), and in consultation with the Attorney General and the Secretary of the Treasury, I conclude that the circumstances that were the basis for the designation of Lashkar-e-Tayyiba (and other aliases) as a Foreign Terrorist Organization have not changed in such a manner as to warrant revocation of the designation and that the national security of the United States does not warrant a revocation of the designation. I have also concluded that there is a sufficient factual basis to find that the following are additional aliases of the aforementioned organization (and other aliases): The Resistance Front; TRF; Kashmir Resistance Front; and Kashmir Resistance.

Therefore, I hereby determine that the designation of the aforementioned organization, pursuant to Section 219 of the INA (8 U.S.C. 1189), shall be maintained. Additionally, pursuant to Section 219(b) of the INA, as amended (8 U.S.C. 1189(b)), I hereby amend the designation of the aforementioned organization (and other aliases) to include the following new aliases: The Resistance Front; TRF; Kashmir Resistance Front; Kashmir Resistance.

This determination shall be published in the Federal Register. The amendment goes into effect upon publication.

Dated: 07/02/2025.
Marco Rubio,
Secretary of State.

[FR Doc. 2025-13565 Filed 7-17-25; 8:45 am]

BILLING CODE 4710-AD-P